DEPARTMENT OF HEALTH AND HUMAN SERVICES

Centers for Disease Control and Prevention

Prospective Granting of an Exclusive License

AGENCY: Technology Transfer Office, Centers for Disease Control and Prevention (CDC), Department of Health and Human Services.

ACTION: Notice.

SUMMARY: This is a notice in accordance with 35 U.S.C. 209(e) and 37 CFR 404.7(a)(1)(i) that the Technology Transfer Office, Centers for Disease Control and Prevention (CDC), Department of Health and Human Services (DHHS), is contemplating the granting of an exclusive worldwide license to practice the invention embodied in the patent application referred to below to International Rollforms, Inc., having a place of business in Deptford, New Jersey. CDC intends to grant rights to practice this invention to no other licensees. The patent rights in this invention have been assigned to the government of the United States of America. The patent to be licensed is:

Title: Instrumented Rock Bolt, Data Logger and User Interface System, CDC Ref. #: I-017-01.

Patent No.: 7,324,007.

Filing Date: 12/27/2002.

Issue Date: 01/29/2008.

The prospective exclusive license will be royalty-bearing and will comply with the terms and conditions of 35 U.S.C. 209 and 37 CFR 404.7.

This invention includes the use of rock bolts, strain gauges and data loggers to increase the stability of rock mass comprising the roof and walls of mines. Strain gauges affixed to the rock bolts provide a measure of the strains and hence the stresses which a rock bolt is subjected to. The rock bolt may include a data logger which is coupled to receive signals from one or more strain gauges, and to record these signals to memory.

ADDRESSES: Requests for a copy of this patent, inquiries, comments, and other materials relating to the contemplated license should be directed to Andrew Watkins, Director, Technology Transfer Office, Centers for Disease Control and Prevention (CDC), 4770 Buford Highway, Mailstop K-79, Atlanta, GA 30341, telephone: (770) 488-8610; facsimile: (770) 488-8615. Applications for an exclusive license filed in response to this notice will be treated as objections to the grant of the contemplated exclusive license. Only written comments and/or applications for a license which are received by CDC within thirty days of this notice will be considered. Comments and objections submitted in response to this notice will not be made available for public inspection, and, to the extent permitted by law, will not be released under the Freedom of Information Act, 5 U.S.C. 552.

Dated: October 30, 2009.
Tanja Popovic,
Chief Information Officer, Centers for Disease Control and Prevention.

[FR Doc. E9-26939 Filed 11-6-09; 8:45 am]

BILLING CODE 4163-18-P